DEPARTMENT OF HEALTH AND HUMAN SERVICES

Food and Drug Administration

[Docket No. 79F-0401]

Thomas J. Lipton, Inc.; Withdrawal of Food Additive Petition

AGENCY: Food and Drug Administration, HHS.

ACTION: Notice.

SUMMARY: The Food and Drug Administration (FDA) is announcing the withdrawal, without prejudice to a future filing, of a food additive petition (FAP 0A3481) proposing that the food additive regulations be amended to provide for the safe use of methylene chloride as a solvent for decaffeinating tea.

FOR FURTHER INFORMATION CONTACT: Rudolph Harris, Center for Food Safety and Applied Nutrition (HFS-206), Food and Drug Administration, 200 C St. SW., Washington, DC 20204, 202-418-3110.

SUPPLEMENTARY INFORMATION: In a notice published in the Federal Register of November 23, 1979 (44 FR 67231), FDA announced that a food additive petition (FAP 0A3481) had been filed by Thomas J. Lipton, Inc., 800 Sylvan Ave., Englewood Cliffs, NJ 07632. The petition proposed that the food additive regulations be amended to provide for the safe use of methylene chloride as a solvent for decaffeinating tea. Thomas J. Lipton, Inc., an operating division of Unilever, the successor to Thomas J. Lipton, Inc., has now withdrawn the petition without prejudice to a future filing (21 CFR 171.7).

Dated: March 15, 2000.
Laura M. Tarantino,
Acting Director, Office of Premarket Approval, Center for Food Safety and Applied Nutrition.

[FR Doc. 00-7538 Filed 3-27-00; 8:45 am]

BILLING CODE 4160-01-F